GENERAL SERVICES ADMINISTRATION

[Notice-MV-2021-01; Docket No. 2021-0002; Sequence 16]

Public Availability of General Services Administration Fiscal Year 2019 Service Contract Inventory

AGENCY: Office of Governmentwide Policy, General Services Administration, (GSA).

ACTION: Notice of public availability of GSA Fiscal Year 2019 Service Contract Inventory.

SUMMARY: In accordance with The Fiscal Year (FY) 2010 Consolidated Appropriations Act, GSA is publishing this notice to advise the public of the availability of the FY 2019 Service Contract Inventory.

DATES: Applicable: July 16, 2021.

FOR FURTHER INFORMATION CONTACT: Questions regarding the Service Contract Inventory should be directed to Mr. Jeffrey Pitts in the Office of Acquisition Policy at 202-501-0712 or jeffrey.pitts@gsa.gov.

SUPPLEMENTARY INFORMATION: In accordance with section 743 of Division C of the FY 2010 Consolidated Appropriations Act (Pub. L. 111-117), GSA is publishing this notice to advise the public of the availability of the Fiscal Year 2019 Service Contract Inventory. This inventory is available at https://www.acquisition.gov/service-contract-inventory. The inventory provides information on governmentwide service contract actions over $25,000 that were made in FY 2019. The service contract inventory information located on acquisition.gov can be filtered by agency and component to show how contracted resources are distributed throughout any agency. The inventory has been developed in accordance with the guidance issued on December 19, 2011, by the Office of Management and Budget's Office of Federal Procurement Policy (OFPP). The OFPP's guidance is available at: https://obamawhitehouse.archives.gov/omb/procurement-service-contract-inventories. GSA has posted its FY 2018 inventory analyses and its planned analyses of FY 2019 actions at the following location: http://www.gsa.gov/gsasci.

Jeffrey Koses,
Senior Procurement Executive, Office of Acquisition Policy, Office of Governmentwide Policy.

[FR Doc. 2021-15102 Filed 7-15-21; 8:45 am]

BILLING CODE 6820-61-P